DEPARTMENT OF HOMELAND SECURITY

Transportation Security Administration

[Docket No. TSA-2011-0008]

Request for Applicants for Appointment to the Aviation Security Advisory Committee

AGENCY: Transportation Security Administration, DHS.

ACTION: Committee management; request for applicants.

SUMMARY: The Transportation Security Administration (TSA) is requesting applications from individuals who are interested in being appointed to serve on the Aviation Security Advisory Committee (ASAC). All applicants must represent one of the constituencies specified below in order to be eligible for appointment. ASAC's mission is to provide advice and recommendations to the TSA Administrator on improving aviation security matters, including developing, refining, and implementing policies, programs, rulemaking, and security directives pertaining to aviation security, while adhering to sensitive security guidelines.

DATES: Applications for membership must be submitted to TSA using one of the methods in the ADDRESSES section below on or before May 11, 2023.

ADDRESSES: Applications must be submitted by one of the following means:

• Email: ASAC@tsa.dhs.gov.

• Mail: Tamika McCree Elhilali, ASAC Designated Federal Officer, Transportation Security Administration (TSA-28), 6595 Springfield Center Drive, Springfield, VA 20598-6028.

See SUPPLEMENTARY INFORMATION for application requirements.

FOR FURTHER INFORMATION CONTACT: Tamika McCree Elhilali, ASAC Designated Federal Officer, Transportation Security Administration (TSA-28), 6595 Springfield Center Drive, Springfield, VA 20598-6028, ASAC@tsa.dhs.gov, 202-595-4802.

SUPPLEMENTARY INFORMATION: The ASAC is an advisory committee established pursuant to 49 U.S.C. 44946. The committee is composed of individual members representing key constituencies affected by aviation security requirements. As required by statute, the ASAC is composed of individuals representing not more than 34 member organizations.

TSA is seeking applications for the membership categories scheduled to expire in May 2023, which are marked with an asterisk in this section below. Individuals are appointed by the TSA Administrator to represent 19 key constituencies affected by aviation security requirements, as defined at 49 U.S.C. 44946(c)(1)(C). Consistent with applicable law, TSA is committed to pursuing opportunities to appoint a committee that reflects the diversity of the United States. The following list provides the 19 key constituencies and identifies with an asterisk (*) the constituencies for whom the current representative's term is expiring:

1. Air carriers.

2. All-cargo air transportation.*

3. Labor organizations representing air carrier employees (3 vacancies).*

4. Aircraft manufacturers.*

5. Airport operators.*

6. General aviation.*

7. Travel industry.*

8. Victims of terrorist acts against aviation.

9. Law enforcement and security experts.

10. Indirect air carriers.*

11. Aviation security technology industry (including screening technology and biometrics).

12. Airport-based businesses.*

13. Passenger advocacy groups.

14. Airport authorities and businesses that conduct security operations at airports.*

15. Labor organizations representing transportation security officers.*

16. Airport construction and maintenance contractors.*

17. Labor organizations representing employees of airport construction and maintenance contractors.

18. Privacy organizations.

19. Aeronautical repair stations.

Unless otherwise noted, the ASAC does not have a specific number of members allocated to any membership category and the number of members in a category may change to fit the needs of the Committee, but each organization shall be represented by one individual. Members will serve as representatives and speak on behalf of their respective constituency group, and will not be appointed as Special Government Employees as defined in 18 U.S.C. 202(a). Membership on ASAC is personal to the appointee and a member may not send an alternate to a Committee meeting. Pursuant to 49 U.S.C. 44946(c)(3), members shall not receive pay, allowances, or benefits from the Government by reason of their service on ASAC.

Committee Meetings

The ASAC typically convenes four times per year. Additional meetings may be held with the approval of the Designated Federal Official. While at least one meeting per year is open to the public, due to the sensitive nature of the material discussed, the other meetings are typically closed to the public. In addition, members are expected to participate on ASAC subcommittees that typically meet more frequently to deliberate and discuss specific aviation matters.

Committee Membership

Committee members are appointed by and serve at the pleasure of the TSA Administrator for a 2-year term or until a successor is appointed. Members who are currently serving on the Committee are eligible to reapply for membership. A new application is required.

Committee Membership Vetting

All applicants that are presented for appointment to ASAC must successfully complete a Security Threat Assessment (STA) by TSA, as access to sensitive security information will be necessary. U.S. citizens and those meeting residency requirements will be vetted using TSA's Universal Enrollment Services (UES), which includes the collection of biographic and biometric information to allow TSA to perform the STA in regards to criminal history, intelligence, and citizenship. Selected applicants will be offered a no-cost authorization code to complete the three-step UES process; which includes online pre-enrollment, coordinating a visit to an enrollment center, and the in-person visit to the enrollment center.

Non-U.S. applicants presented for appointment to ASAC, will be required to complete additional vetting. This vetting will include the completion and submission of TSA Form 2816B form, and must be submitted at least 30 days prior to visiting TSA spaces.

Application for Advisory Committee Appointment

TSA is seeking applications for the membership categories scheduled to expire in May 2023, which are marked with an asterisk in the Supplementary Information section above. Any person wishing to be considered for appointment to ASAC must provide the following:

• Complete professional resume.

• Statement of interest and reasons for application, including the membership category and how you represent a significant portion of that constituency and also provide a brief explanation of how you can contribute to one or more TSA strategic initiatives, based on your prior experience with TSA, or your review of current TSA strategic documents that can be found at www.tsa.gov/about/strategy.

• Home and work addresses, telephone number, and email address.

Please submit your application to the Responsible TSA Official in the ADDRESSES section noted above by May 11, 2023.

Dated April 14, 2023.
Eddie D. Mayenschein,
Assistant Administrator, Policy, Plans, and Engagement.

[FR Doc. 2023-08328 Filed 4-19-23; 8:45 am]

BILLING CODE 9110-05-P